DEPARTMENT OF THE INTERIOR

Geological Survey

[GX14GG009950000]

National Earthquake Prediction Evaluation Council (NEPEC)

AGENCY: U.S. Geological Survey, Interior.

ACTION: Notice of meeting.

SUMMARY: Pursuant to Public Law 96-472, the National Earthquake Prediction Evaluation Council (NEPEC) will hold a one-and-a-half-day meeting on November 4 and 5, 2013, at the U.S. Geological Survey (USGS) in Menlo Park, California. The Council is comprised of members from academia and the Federal Government. The Council shall advise the Director of the U.S. Geological Survey on proposed earthquake predictions, on the completeness and scientific validity of the available data related to earthquake predictions, and on related matters as assigned by the Director. Additional information about the Council may be found at: http://earthquake.usgs.gov/aboutus/nepec/.

At the meeting, the Council will receive several briefings on the history and current state of scientific investigations of earthquake processes in and around the San Andreas fault near the town of Parkfield in central California, and will be asked to advise the USGS on priorities for instrumentation and scientific investigations in the future. The Council will also hear updates on past topics of discussion, including work with social and behavioral scientists on improving hazard and risk messages; development of improved methods for calculation of short-term aftershock probabilities; USGS collaborative work with the Collaboratory for Study of Earthquake Predictability (CSEP); status of an updated Uniform California Earthquake Rupture Forecast (UCERF3); and on the delivery of near-real-time earthquake information by the National Earthquake Information Center (NEIC).

A draft meeting agenda is available from the Executive Secretary on request (contact information below), and will be posted to the Web site (above) when finalized. In order to ensure sufficient seating and hand-outs, it is requested that visitors pre-register by contacting the Executive Secretary by November 1. Members of the public wishing to make a statement to the Council should provide notice of that intention by November 1 so that time may be allotted in the agenda.

DATES: The meeting will be held in Building 3 of the USGS campus at 345 Middlefield Road, Menlo Park, California. The meeting will commence in the early afternoon of Monday, November 4, 2013, and continue the following day, November 5, 2013, beginning at 9:00 a.m. and adjourning at or before 4:00 p.m. Times are approximate. Guests are encouraged to contact the Executive Secretary for a copy of the agenda and instructions for parking and locating the meeting room.

Contact: Dr. Michael Blanpied, Executive Secretary, National Earthquake Prediction Evaluation Council, U.S. Geological Survey, MS 905, 12201 Sunrise Valley Drive, Reston, Virginia 20192, (703) 648-6696, Email: mblanpied@usgs.gov.

Dated: October 21, 2013.
Michael Blanpied,
Designated Federal Officer.

[FR Doc. 2013-25616 Filed 10-29-13; 8:45 am]

BILLING CODE P